DEPARTMENT OF ENERGY

Federal Energy Regulatory Commission

Combined Notice of Filings

Take notice that the Commission has received the following Natural Gas Pipeline Rate and Refund Report filings:

Filings Instituting Proceedings

Docket Numbers: RP14-1143-000.

Applicants: Equitrans, L.P.

Description: Equitrans' Tariff Clean-Up Filing—July 2014 to be effective 9/1/2014.

Filed Date: 7/31/14.

Accession Number: 20140731-5056.

Comments Due: 5 p.m. ET 8/12/14.

Docket Numbers: RP14-1144-000.

Applicants: Southern Star Central Gas Pipeline, Inc.

Description: Misc Tariff Filing July 2014 to be effective 9/1/2014.

Filed Date: 7/31/14.

Accession Number: 20140731-5057.

Comments Due: 5 p.m. ET 8/12/14.

Docket Numbers: RP14-1145-000.

Applicants: Algonquin Gas Transmission, LLC.

Description: Negotiated Rate Release eff 8/1/14 to be effective 8/1/2014.

Filed Date: 7/31/14.

Accession Number: 20140731-5070.

Comments Due: 5 p.m. ET 8/12/14.

Docket Numbers: RP14-1146-000.

Applicants: Gulf South Pipeline Company, LP.

Description: Cap Rel Neg Rate Agmt (Petrohawk 41455 to BP 42816) to be effective 8/1/2014.

Filed Date: 7/31/14.

Accession Number: 20140731-5071.

Comments Due: 5 p.m. ET 8/12/14.

Docket Numbers: RP14-1147-000.

Applicants: Gulf South Pipeline Company, LP.

Description: Cap Rel Neg Rate Agmt (Encana 37663 to texla 42815) to be effective 8/1/2014.

Filed Date: 7/31/14.

Accession Number: 20140731-5072.

Comments Due: 5 p.m. ET 8/12/14.

Docket Numbers: RP14-1148-000.

Applicants: Texas Gas Transmission, LLC.

Description: Amendment to Non-Conforming Agreement (KU 31869) to be effective 8/1/2014.

Filed Date: 7/31/14.

Accession Number: 20140731-5073.

Comments Due: 5 p.m. ET 8/12/14.

Docket Numbers: RP14-1149-000.

Applicants: Dominion Transmission, Inc.

Description: DTI—July 31, 2014 Negotiated Rate Agreement to be effective 8/1/2014.

Filed Date: 7/31/14.

Accession Number: 20140731-5090.

Comments Due: 5 p.m. ET 8/12/14.

Docket Numbers: RP14-1150-000.

Applicants: Great Lakes Gas Transmission Limited Par.

Description: Great Lakes Gas Transmission Semi-Annual Transporter's Use Report.

Filed Date: 7/31/14.

Accession Number: 20140731-5091.

Comments Due: 5 p.m. ET 8/12/14.

Docket Numbers: RP14-1151-000.

Applicants: Questar Overthrust Pipeline Company.

Description: Non-conforming TSAs, Bill Barrett/BP to be effective 8/1/2014.

Filed Date: 7/31/14.

Accession Number: 20140731-5147.

Comments Due: 5 p.m. ET 8/12/14.

Docket Numbers: RP14-1152-000.

Applicants: Millennium Pipeline Company, LLC.

Description: Negotiated Rate & Non-Conforming Agreement—Southwestern to be effective 9/1/2014.

Filed Date: 7/31/14.

Accession Number: 20140731-5167.

Comments Due: 5 p.m. ET 8/12/14.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP14-1053-001.

Applicants: Equitrans, L.P.

Description: Re-File Revised Formula-Based Negotiated Rates Effective 3-1-2014 for Priority to be effective 3/1/2014.

Filed Date: 7/31/14.

Accession Number: 20140731-5034.

Comments Due: 5 p.m. ET 8/12/14.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 1, 2014.
Nathaniel J. Davis, Sr.,
Deputy Secretary.

[FR Doc. 2014-18934 Filed 8-8-14; 8:45 am]

BILLING CODE 6717-01-P